DEPARTMENT OF HOMELAND SECURITY

Coast Guard

33 CFR Part 117

[Docket No. USCG-2009-0864]

Drawbridge Operation Regulation; Cape Fear River and Northeast Cape Fear River, Wilmington, NC

AGENCY: Coast Guard, DHS.

ACTION: Notice of temporary deviation from regulations.

SUMMARY: The Commander Fifth Coast Guard District has issued a temporary deviation from the regulations governing the operation of the Cape Fear River Memorial Bridge at mile 26.8 and the Isabel S. Holmes Bridge at mile 1.0 across Northeast Cape Fear River at Wilmington NC. The deviation is necessary to accommodate a road race. This deviation allows the bridges to remain in the closed position to vessels.

DATES: This deviation is effective from 8 a.m. to 10 a.m. on October 4, 2009.

ADDRESSES: Documents mentioned in this preamble as being available in the docket are part of docket USCG-2009-0864 and are available online by going to http://www.regulations.gov, inserting USCG-2009-0864 in the “Keyword” box and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or e-mail Gary Heyer, Bridge Management Specialist, Fifth Coast Guard District; telephone 757-398-6629, e-mail Gary.S.Heyer@uscg.mil. If you have questions on viewing the docket, call Renee V. Wright, Program Manager, Docket Operations, telephone 202-366-9826.

SUPPLEMENTARY INFORMATION: The Cape Fear River Memorial Bridge at mile 26.8, a vertical-lift type bridge, and the Isabel S. Holmes Bridge at mile 1.0 across Northeast Cape Fear River, a bascule lift bridge, have vertical clearances in the closed positions to vessels of 65 feet and 40 feet above mean high water, respectively.

The North Carolina Department of Transportation has requested a temporary deviation from the current operating regulations of the aforementioned bridges set out in 33 CFR 117.823 and 33 CFR 117.829 (a), respectively, to accommodate the annual Riverfest 8K Run. The deviation would allow the two drawbridges to remain in the closed position to vessels from 8 a.m. to 10 a.m. on Sunday, October 4, 2009.

The Coast Guard will inform the users of the waterways through our Local and Broadcast Notices to Mariners of the closure periods for the bridges so that vessels can arrange their transits to minimize any impact caused by the temporary deviation.

In accordance with 33 CFR 117.35(e), the drawbridge must return to its regular operating schedule immediately at the end of the designated time period. This deviation from the operating regulations is authorized under 33 CFR 117.35.

Dated: September 15, 2009.
Waverly W. Gregory, Jr.,
Chief, Bridge Administration Branch, Fifth Coast Guard District.

[FR Doc. E9-23279 Filed 9-25-09; 8:45 am]

BILLING CODE 4910-15-P